DEPARTMENT OF COMMERCE

International Trade Administration

[A-570-952]

Narrow Woven Ribbon With Woven Selvedge From the People's Republic of China: Final Results of Administrative Review; 2012-2013

AGENCY: Enforcement and Compliance, International Trade Administration, Department of Commerce.

SUMMARY: On June 9, 2014, the Department of Commerce (the “Department”) published the preliminary results and partial rescission of the 2012-2013 administrative review of the antidumping duty order on narrow woven ribbon with woven selvedge (“NWR”) from the People's Republic of China (“PRC”), in accordance with section 751(a)(1)(B) of the Tariff Act of 1930, as amended (“the Act”).¹ The period of review (“POR”) is September 1, 2012, through August 31, 2013. Because the PRC-wide entity failed to cooperate to the best of its ability in complying with our requests for information, we preliminarily determined an estimated weighted-average dumping margin for the PRC-wide entity based on facts available with an adverse inference (“AFA”). The Department invited interested parties to comment on the Preliminary Results. No parties commented. Accordingly, our final results remain unchanged from the Preliminary Results.

¹ See Narrow Woven Ribbon With Woven Selvedge From the People's Republic of China: Preliminary Results and Partial Rescission of Administrative Review; 2012-2013, 79 FR 32912 (June 9, 2014) (“Preliminary Results”).

DATES: Effective Date: October 10, 2014.

FOR FURTHER INFORMATION CONTACT: Drew Jackson, AD/CVD Operations, Office IV, Enforcement and Compliance, International Trade Administration, U.S. Department of Commerce, 14th Street and Constitution Avenue NW., Washington, DC 20230; telephone: (202) 482-4406.

SUPPLEMENTARY INFORMATION:

Background

On June 9, 2014, the Department published the Preliminary Results. The Department explained that it had initiated an administrative review of the company, Yangzhou Bestpak Gifts & Crafts Co., Ltd. (“Bestpak”) and issued questionnaires to Bestpak, which did not respond to those questionnaires. Because Bestpak did not establish that its export activities were separate from that of the PRC-wide entity, in accordance with 19 CFR 351.107(d), the Department preliminarily determined that Bestpak was part of the PRC-wide entity. Further, because the PRC-wide entity failed to provide responses to questionnaires and cooperate to the best of its ability in complying with the information requests, the Department preliminarily determined an estimated weighted-average dumping margin based on AFA, in accordance with sections 776(a) and (b) of the Act, for the PRC-wide entity. We invited interested parties to submit comments on the Preliminary Results. No party commented, nor did any party request a hearing.

Scope of the Order

The products covered by the order are narrow woven ribbons with woven selvedge.² The merchandise subject to the order is classifiable under the Harmonized Tariff Schedule of the United States (“HTSUS”) subheadings 5806.32.1020; 5806.32.1030; 5806.32.1050 and 5806.32.1060. Subject merchandise also may enter under HTSUS subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS subheadings are provided for convenience and customs purposes, the written product description in the Order remains dispositive.³

² See Notice of Antidumping Duty Orders: Narrow Woven Ribbons With Woven Selvedge From Taiwan and the People's Republic of China: Antidumping Duty Orders, 75 FR 53632 (September 1, 2010), as amended in Narrow Woven Ribbons With Woven Selvedge From Taiwan and the People's Republic of China: Amended Antidumping Duty Orders, 75 FR 56982 (September 17, 2010).

³ For a complete description of the scope of the order, please see “Decision Memorandum for Preliminary Results of Antidumping Duty Administrative: Narrow Woven Ribbons With Woven Selvedge From the People's Republic of China,” from Christian Marsh, Deputy Assistant Secretary for Antidumping and Countervailing Duty Operations, to Paul Piquado, Assistant Secretary for Enforcement and Compliance, dated June 2, 2014 (“Preliminary Decision Memorandum”), which can be accessed directly at http://enforcement.trade.gov/frn/.

Final Results of Review

As noted above, the Department received no comments concerning the Preliminary Results on the record of this segment of the proceeding. As there are no changes from, or comments upon, the Preliminary Results, the Department finds that there is no reason to modify its analysis. Thus, we continue to determine that Bestpak is part of the PRC-wide entity for these final results, and that the PRC-wide entity has failed to act to the best of its ability to responding to the Department's requests for information, warranting the application of AFA, in accordance with sections 776(a) and (b) of the Act. Accordingly, no decision memorandum accompanies this Federal Register notice. For further details of the issues addressed in this proceeding, see the Preliminary Results and the accompanying Preliminary Decision Memorandum. The final weighted-average dumping margin for the period September 1, 2012, through August 31, 2013, is as follows:

Exporter | Weighted-average dumping margin (percent)
PRC-wide entity ⁴ | 247.65

⁴ The PRC-wide entity includes, among other companies, the following companies that indicated that they did not ship subject merchandise to the United States during the POR: (1) Apex Trimmings Inc. d/b/a Papillon Ribbon & Bow (Canada); (2) Cheng Hsing Ribbon Factory; (3) Hen Hao Trading Co., Ltd. a.k.a. Taiwan Tulip Ribbons and Braid Co. Ltd; (4) Hsien Chan Enterprise Co., Ltd; (5) King Young Enterprises Co., Ltd; (6) Multicolor; (7) Novelty Handicrafts Co., Ltd; (8) Papillon Ribbon & Bow (H.K.) Ltd; (9) Papillon Ribbon & Bow (Shanghai) Ltd; (10) Roung Shu Industry Corporation a.k.a Cheng Hsing Ribbon Factory; (11) Shienq Huong Enterprise Co., Ltd; and (12) Yu Shin Development Co. Ltd.

Assessment

The Department will determine, and Customs and Border Protection (“CBP”) shall assess, antidumping duties on all appropriate entries covered by this review.⁵ The Department intends to issue assessment instructions to CBP 15 days after the date of publication of these final results of review. The Department intends to instruct CBP to liquidate entries of subject merchandise from Bestpak at the PRC-wide rate of 247.65 percent.

⁵ See 19 CFR 351.212(b)(1).

Cash Deposit Requirements

The following cash deposit requirements will be effective upon publication of the final results of this administrative review for all shipments of the subject merchandise from the PRC entered, or withdrawn from warehouse, for consumption on or after the publication date, as provided by section 751(a)(2)(C) of the Act: (1) For previously investigated or reviewed PRC and non-PRC exporters which are not under review in this segment of the proceeding but which have separate rates, the cash deposit rate will continue to be the exporter-specific rate published for the most recent period; (2) for all PRC exporters of subject merchandise that have not been found to be entitled to a separate rate, the cash deposit rate will be the PRC-wide rate of 247.65 percent; and (3) for all non-PRC exporters of subject merchandise which have not received their own rate, the cash deposit rate will be the rate applicable to the PRC exporter(s) that supplied that non-PRC exporter. These deposit requirements, when imposed, shall remain in effect until further notice.

Notification to Importers Regarding the Reimbursement of Duties

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Notification to Interested Parties

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act.

Dated: October 3, 2014.
Paul Piquado,
Assistant Secretary for Enforcement and Compliance.

[FR Doc. 2014-24272 Filed 10-9-14; 8:45 am]

BILLING CODE 3510-DS-P